DEPARTMENT OF AGRICULTURE

Forest Service

Notice of Proposed New Fee Site

AGENCY: Forest Service, Agriculture (USDA).

ACTION: Notice of proposed new fee site.

SUMMARY: The White River and Grand Mesa Uncompahgre Gunnison National Forests, located in central Colorado, are proposing to charge a new special recreation overnight permit fee for areas located in the Maroon Bells-Snowmass Wilderness. An analysis of other opportunities shows the proposed fees as described below under SUPPLEMENTARY INFORMATION are reasonable.

DATES: If approved, the new fee would be implemented no earlier than six months following publication of this notice in the Federal Register.

ADDRESSES: White River National Forest, ATTN: Recreation Fees, P.O. Box 309, Carbondale, CO 81623.

FOR FURTHER INFORMATION CONTACT: Kevin Warner, District Ranger, 970-404-3157. Information about proposed fee changes can also be found on the White River National Forest's website: https://www.fs.usda.gov/whiteriver.

SUPPLEMENTARY INFORMATION: The Federal Recreation Lands Enhancement Act (Title VII, Pub. L. 108-447) directed the Secretary of Agriculture to publish a six-month advance notice in the Federal Register whenever new recreation fee areas are established.

The fee is based on the level of amenities and services provided, the cost of operations and maintenance, and the market assessment of similar types of opportunities. A new special recreation fee of $12 per night per person is proposed for overnight permits for certain areas located in the Maroon Bells-Snowmass Wilderness during peak permit season. An analysis of nearby developed recreation sites with similar amenities shows the proposed fees are reasonable and typical of similar sites in the area. Scenic, high alpine passes connect 173 miles of Forest System trails featuring rich wildlife and botanic biodiversity, natural hot springs, and breathtaking fall colors. These characteristics make Maroon Bells-Snowmass Wilderness a unique wilderness recreation destination. The proposed fee would help cover the costs of specialized services including managing the permit system's sustainable distribution of visitors, site restoration, increased Forest Service ranger presence, trash and human waste removal, increased local and regional outreach, and improvements to trail access, trailhead signage. and information kiosks.

These new fees will be reviewed and approved by a Forest Service Regional Recreation Fee Board and the Forest Service Regional Forester prior to a final decision and implementation.

People wanting to reserve these permits will be able do so through Recreation.gov, at www.recreation.gov or by calling 1-877-444-6777.

Dated: October 1, 2021.
Sandra Watts,
Acting Associate Deputy Chief, National Forest System.

[FR Doc. 2021-21819 Filed 10-5-21; 8:45 am]

BILLING CODE 3411-15-P